DEPARTMENT OF AGRICULTURE

Forest Service

Information Collection; Public Support for Fuel Reduction Policies: Multimedia Versus Printed Materials

AGENCY: Forest Service, USDA.

ACTION: Notice; request for comment.

SUMMARY: Under the Paperwork Reduction Act of 1995, the Forest Service is seeking comments from all interested people and organizations on the extension of a currently approved information collection, Public Support for Fuel Reduction Policies: Multimedia Versus Printed Materials.

DATES: Comments must be received in writing on or before February 16, 2010 to be assured of consideration. Comments received after that date will be considered to the extent practicable.

ADDRESSES: Comments concerning this notice should be addressed to Armando González-Cabán, Pacific Southwest, Research Station, Forest Service, USDA, 4955 Canyon Crest Drive, Riverside, CA 92507.

Comments also may be submitted via facsimile to 951-680-1501 or by e-mail to agonzalezcaban@fs.fed.us.

The public may inspect comments received at Pacific Southwest Research Station, Building One reception area, Forest Service, USDA, 4599 Canyon Crest Drive, Riverside, CA, during normal business hours. Visitors are encouraged to call ahead to 951-680-1501 to assist entry into the building.

FOR FURTHER INFORMATION CONTACT: Armando González-Cabán, Pacific Southwest Research Station, USDA Forest Service, 951-680-1525. Individuals who use telecommunication devices for the deaf (TDD) may call the Federal Relay Service (FRS) at 1-800-877-8339, 24 hours a day, every day of the year, including holidays.

SUPPLEMENTARY INFORMATION: Title: Public Support for Fuel Reduction Policies: Multimedia Versus Printed Materials.

OMB Number: 0596-0203.

Expiration Date of Approval: March 31, 2010.

Type of Request: Extension of a currently approved collection.

Abstract: This information collection is being undertaken to solicit information on public support of two fuel reduction programs: prescribed burning and mechanical treatment. Researchers will evaluate the responses of California and Montana residents to different scenarios related to fire hazard reduction programs, determine how effective residents think the programs are, and calculate how much residents would be willing to pay to implement the alternatives presented to them.

The results of the survey will allow researchers to provide better information to natural resource, forest, and fire managers when they are contemplating the kind and type of fire hazard reduction program to implement to achieve forestland management planning objectives. In addition, the survey will assist forest and fire managers in developing educational and outreach material for forest homeowners, schools, public meetings, and State and Private Forestry extension programs.

To gather the information, a stratified random sample of California and Montana residents will be contacted by telephone through a random-digit dialing process. Those contacts who agree to participate in the study will be asked an introductory set of questions to determine their pre-existing knowledge of fuels reduction treatments. The respondents will be informed that a more in-depth, self-administered video questionnaire will be mailed to them.

Upon receipt of the video, participants will also be asked to watch the videotape; answer questions on the attached answer sheet; and return the answer sheet to the Forest Service researchers in a postage-paid, preaddressed envelope included with the initial mailing. After 2 weeks, a reminder post card will be sent to all participants who have not responded. A week later, a second, duplicate videotape will be sent to all participants who have not responded. After resending the duplicate video, no additional contact will take place with participants.

The information will be collected by a university research survey center and will be analyzed by a Forest Service researcher and a researcher at a cooperating university who are experienced in applied economic nonmarket valuation research and survey research.

At present the Forest Service, Bureau of Land Management, Bureau of Indian Affairs, National Park Service, Fish and Wildlife Service, and many State agencies with fire protection responsibilities are planning to embark on ambitious and costly fuels reduction program for fire risk reduction without a clear understanding of the public's opinion on which treatments are most effective or even desirable.

Information collected in this research will help natural resource and fire managers to better understand the public's opinions on fuels reduction activities and what type of media could be more effective in conveying information to the public.

Estimate of Annual Burden: 30 minutes.

Type of Respondents: Stratified random sample of heads of households.

Estimated Annual Number of Respondents: 1,000.

Estimated Annual Number of Responses per Respondent: 1.

Estimated Total Annual Burden on Respondents: 500 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: December 14, 2009.
Ann Bartuska,
Deputy Chief, Research & Development.

[FR Doc. E9-30105 Filed 12-17-09; 8:45 am]

BILLING CODE 3410-11-P